DEPARTMENT OF DEFENSE

Department of the Air Force

[Docket ID: USAF-2010-0018]

Privacy Act of 1974; System of Records

AGENCY: Department of the Air Force, DoD.

ACTION: Notice to amend a system of records.

SUMMARY: The Department of the Air Force is proposing to amend a system of records notice in its existing inventory of records systems subject to the Privacy Act of 1974, (5 U.S.C. 552a), as amended.

DATES: The changes will be effective on August 5, 2010, unless comments are received that would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles Shedrick at (703) 696-6488.

SUPPLEMENTARY INFORMATION: The Department of the Air Force systems of records notices subject to the Privacy Act of 1974, (5 U.S.C. 552a), as amended, have been published in the Federal Register and are available from the Air Force Privacy Act Officer, Office of Warfighting Integration and Chief Information Officer, SAF/XCPPF, 1800 Air Force Pentagon, Washington, DC 20330-1800.

The specific changes to the records system being amended are set forth below followed by the notice, as amended, published in its entirety. The proposed amendments are not within the purview of subsection (r) of the Privacy Act of 1974, (5 U.S.C. 552a), as amended, which requires the submission of a new or altered system report.

Dated: June 30, 2010.
Mitchell S. Bryman,
Alternate OSD Federal Register Liaison Officer, Department of Defense.

F010 AFSPC A

System name:

Telecommunications Notification System (January 14, 2010; 75 FR 2117).

Changes:

* * * * *

System location:

Delete entry and replace with “30 Space Communications Squadron, Building 12000, Room 104, 867 Washington Ave, Suite 205, Vandenberg Air Force Base, CA 93437-6117.

Air Force installations that have access to this system. Official mailing addresses are published as an appendix to the Air Force's compilation of systems of records notices.”

* * * * *

Notification procedure:

Delete entry and replace with “Individuals seeking to determine whether information about themselves is contained in this system of records should address written inquiries to the Command Post Superintendent, 30 Space Wing Command, Post 867 Washington Ave, Suite 205, Vandenberg Air Force Base, CA 93437-6117.

Individuals at the 45 SW seeking to determine whether information about themselves is contained in this system of records should address written inquiries to the 45 Space Wing Command Post, Patrick Air Force Base, FL 32925-3002.

Requests must contain the individual's full name and office.”

Record access procedures:

Delete entry and replace with “Individuals seeking access to information about themselves should address written inquiries to Command Post Superintendent, 30 Space Wing Command Post 867 Washington Ave, Suite 205, Vandenberg Air Force Base, CA 93437-6117.

Individuals at the 45 SW seeking access to information about themselves should address written inquiries to 45 Space Wing Command Post, Patrick Air Force Base, FL 32925-3002.

Requests must contain the individual's full name and office.”

* * * * *

F010 AFSPC A

System name:

Telecommunications Notification System.

System location:

30 Space Communications Squadron, Building 12000, Room 104, 867 Washington Ave, Suite 205, Vandenberg Air Force Base, CA 93437-6117.

Air Force installations that have access to this system. Official mailing addresses are published as an appendix to the Air Force's compilation of systems of records notices.

Categories of individuals covered by the system:

All Air Force Active Duty Service members, civilians, and government contractors.

Categories of records in the system:

First and last name, home, work and cell phone numbers, employee type, office and unit name, home and work email address.

Authority for maintenance of the system:

10 U.S.C. 8013, Secretary of the Air Force: Powers and duties; delegation by; Air Force Instruction (AFI) 10-218, Personnel Accountability in Conjunction with Natural Disasters or National Emergencies; Air Force Policy Directive (AFPD); 10-2 Readiness, Air Force Policy Directive 10-4, Operations Planning, and Air Force Policy Directive 10-25, Emergency Management.

Purpose(s):

To provide notification, via electronic mail and telephone, for personnel recalls and real world and exercise threat conditions.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD `Blanket Routine Uses' published at the beginning of the Air Force's compilation of systems of records notices apply to this system.

Policies and practices for storing, retrieving, accessing, retaining, and disposing of records in the system:

Storage:

Paper records and electronic storage media.

Retrievability:

Data is retrieved by first name, last name and office.

Safeguards:

Records may be accessed by the System Administrator, Command Post, and authorized designated Unit Control Representatives. They must have a Government Common Access Card (CAC) and associated Personal Identification Number (PIN) in addition to user identification and password for system access.

Retention and disposal:

The paper records produced by this system will be reviewed to determine alert notification and acknowledgement times. The paper records produced will be shredded immediately after use and will not be retained longer than 1 month. Electronic records are archived annually.

System manager(s) and address:

Command Post Superintendent, 30 Space Wing Space Communications Squadron, 867 Washington Avenue, Suite 200-1, Vandenberg Air Force Base, CA 93437-6120.

Notification procedure:

Individuals seeking to determine whether information about themselves is contained in this system of records should address written inquiries to the Command Post Superintendent, 30 Space Wing Command, Post 867 Washington Ave, Suite 205, Vandenberg Air Force Base, CA 93437-6117.

Individuals at the 45 SW seeking to determine whether information about themselves is contained in this system of records should address written inquiries to the 45 Space Wing Command Post, Patrick Air Force Base, FL 32925-3002.

Requests must contain the individual's full name and office.

Record access procedures:

Individuals seeking access to information about themselves should address written inquiries to Command Post Superintendent, 30 Space Wing Command Post 867 Washington Ave, Suite 205, Vandenberg Air Force Base, CA 93437-6117.

Individuals at the 45 SW seeking access to information about themselves should address written inquiries to 45 Space Wing Command Post, Patrick Air Force Base, FL 32925-3002.

Requests must contain the individual's full name and office.

Contesting records procedures:

The Air Force rules for accessing records and for contesting contents and appealing initial agency determinations are published in Air Force Instruction 33-332, 32 CFR part 806b, or may be obtained from the system manager.

Record source categories:

From Department of Defense military, civilian and contract personnel.

Exemptions claimed for the system:

None.

[FR Doc. 2010-16326 Filed 7-2-10; 8:45 am]

BILLING CODE 5001-06-P